DEPARTMENT OF THE TREASURY

Office of Foreign Assets Control

Notice of OFAC Sanctions Action

AGENCY: Office of Foreign Assets Control, Treasury.

ACTION: Notice

SUMMARY: The U.S. Department of the Treasury's Office of Foreign Assets Control (OFAC) is publishing the name of one person that has been placed on OFAC's Specially Designated Nationals and Blocked Persons List (SDN List) based on OFAC's determination that one or more applicable legal criteria were satisfied. All property and interests in property subject to U.S. jurisdiction of this person are blocked, and U.S. persons are generally prohibited from engaging in transactions with them.

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

A. On November 7, 2023, OFAC determined that the property and interests in property subject to U.S. jurisdiction of the following persons are blocked under the relevant sanctions authority listed below.

Individuals

1. CAMACHO PORCHAS, Jesus Francisco (a.k.a. “Pilo”), Hermosillo, Sonora, Mexico; DOB 11 May 1980; POB Sonora, Mexico; nationality Mexico; Gender Male; C.U.R.P. CAPJ800511HSRMRS01 (Mexico) (individual) [ILLICIT-DRUGS-EO14059].

Designated pursuant to section 1(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of materially contributing to, the international proliferation of illicit drugs or their means of production.

2. CHAVARIN PRECIADO, David Alonso (a.k.a. “Chava”), Nogales, Sonora, Mexico; DOB 29 Dec 1982; POB Mexico; nationality Mexico; Gender Male; R.F.C. CAPD821229IG4 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

3. HERNANDEZ MAZON, Sergio Isaias (a.k.a. “Chavelo”), Calle Estribo 3, Colonia El Rodeo, Nogales, Sonora, Mexico; DOB 23 Aug 1980; POB Sonora, Mexico; nationality Mexico; Gender Male; C.U.R.P. HEMS800823HSRRZR07 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

4. MENESES OSPINA, Cristian Julian, Mexico; DOB 31 Dec 1983; POB Ibague, Colombia; nationality Colombia; Gender Male; Cedula No. 14137405 (Colombia); C.U.R.P. MEOC831231HNENSR06 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

5. MORENO OROZCO, Oscar Enrique (a.k.a. “Senry”), Nogales, Sonora, Mexico; DOB 23 Sep 1984; POB Sonora, Mexico; nationality Mexico; Gender Male; C.U.R.P. MOOO840923HSRRRS08 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

6. MORGAN HUERTA, Juan Carlos (a.k.a. “Cacayo”), Campillo 86, Piso 2, Loc. 214, Nogales, Sonora 84030, Mexico; DOB 25 Sep 1974; POB Sonora, Mexico; nationality Mexico; Gender Male; C.U.R.P. MOHJ740925HSRRRN00 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

7. MORGAN HUERTA, Jose Arnoldo (a.k.a. “Chachio”), Nogales, Sonora, Mexico; DOB 19 Mar 1972; POB Sonora, Mexico; nationality Mexico; Gender Male; C.U.R.P. MOHA720319HSRRRR06 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

8. MORGAN HUERTA, Miguel Angel, Sonora 335, Hermosillo, Sonora 83296, Mexico; DOB 27 Mar 1973; POB Sonora, Mexico; nationality Mexico; Gender Male; C.U.R.P. MOHM730327HSRRRG07 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

9. MORGAN HUERTA, Jose Luis (a.k.a. “Gordo”), Nogales, Sonora, Mexico; DOB 17 Feb 1969; POB Sinaloa, Mexico; nationality Mexico; Gender Male; C.U.R.P. MOHL690217HSLRRS02 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

10. MORGAN HUERTA, Martin, Mexico; DOB 06 Apr 1970; POB Sinaloa, Mexico; nationality Mexico; Gender Male; C.U.R.P. MOHM700406HSLRRR00 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

11. MURILLO MORGAN, Oscar (a.k.a. “Chino”), Cerrada Lorenzo de Zavala 147, Colonia Miguel Hidalgo, Culiacan, Sinaloa, Mexico; DOB 01 Apr 1968; POB Sinaloa, Mexico; nationality Mexico; Gender Male; C.U.R.P. MUMO680401HSLRRS05 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

12. RAMOS ACOSTA, Alvaro (a.k.a. “Alvaro Arroz Ramos”), Calle Privada Homero Numero 3, Fraccionamiento El Greco, Nogales, Sonora, Mexico; DOB 31 Mar 1976; POB Sonora, Mexico; nationality Mexico; Gender Male; C.U.R.P. RAAA760331HSRMCL00 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

13. ROMERO WIRICHAGA, Ramiro Martin, Nogales, Sonora, Mexico; DOB 16 Sep 1978; POB Sonora, Mexico; nationality Mexico; Gender Male; C.U.R.P. ROWR780916HSRMRM03 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production.

Entities

14. COMERCIALIZADORA VILLBA STONE, S.A DE C.V., Nogales, Sonora, Mexico; Jesus Garcia Corona 560, Int. 4, Alamos, Nogales, Sonora 84085, Mexico; Organization Established Date 14 Apr 2014; Organization Type: Cutting, shaping and finishing of stone; Folio Mercantil No. 4288 (Mexico) [ILLICIT-DRUGS-EO14059].

Designated pursuant to section 1(b)(iii) of E.O. 14059 for being owned, controlled, or directed by, or having acted or purported to act for or on behalf of, directly or indirectly, a person sanctioned pursuant to E.O. 14059.

15. CONCEPTOS GASTRONOMICOS DE SONORA, S. DE R.L. DE C.V. (a.k.a. HABANERO'S RESTAURANTE; a.k.a. HABANERO'S RESTAURANTE STEAK WINGS; a.k.a. HABANEROS STEAK WINGS), Nogales, Sonora, Mexico; Calle Ruiz Cortinez 914, Nogales, Sonora 84040, Mexico; Calle Ruiz Cortinez 895, Nogales, Sonora 84030, Mexico; Organization Established Date 03 Apr 2017; Organization Type: Restaurants and mobile food service activities; SRE Permit No. A201703091732456026 (Mexico) [ILLICIT-DRUGS-EO14059].

Designated pursuant to section 1(b)(iii) of E.O. 14059 for being owned, controlled, or directed by, or having acted or purported to act for or on behalf of, directly or indirectly, a person sanctioned pursuant to E.O. 14059.

16. EXPORTADORA DEL CAMPO RAMOS ACOSTA, S. DE R.L. DE C.V., Nogales, Sonora, Mexico; Organization Established Date 07 Sep 2009; Organization Type: Non-specialized wholesale trade; R.F.C. ECR090907HU3 (Mexico); Folio Mercantil No. 3857 (Mexico) [ILLICIT-DRUGS-EO14059].

Designated pursuant to section 1(b)(iii) of E.O. 14059 for being owned, controlled, or directed by, or having acted or purported to act for or on behalf of, directly or indirectly, a person sanctioned pursuant to E.O. 14059.

17. MORGAN GOLDEN MINING, S.A. DE C.V., Hermosillo, Sonora, Mexico; Organization Established Date 14 Nov 2016; Organization Type: Mining and Quarrying; SRE Permit No. A201611021437031501 (Mexico) [ILLICIT-DRUGS-EO14059].

Designated pursuant to section 1(b)(iii) of E.O. 14059 for being owned, controlled, or directed by, or having acted or purported to act for or on behalf of, directly or indirectly, persons sanctioned pursuant to E.O. 14059.

B. On November 15, 2023, OFAC determined that the property and interests in property subject to U.S. jurisdiction of the following person are blocked under the relevant sanctions authority listed below.

Individual

1. BELL FERNANDEZ, Gilbert Hernan de Los Angeles (a.k.a. “MACHO COCA”), Moin, Limon, Costa Rica; DOB 02 May 1963; POB Turrialba, Cartago, Costa Rica; nationality Costa Rica; Gender Male; Cedula No. 302600933 (Costa Rica) (individual) [ILLICIT-DRUGS-EO14059].

Designated pursuant to section 1(a)(i) of Executive Order 14059 of December 15, 2021, “Imposing Sanctions on Foreign Persons Involved in the Global Illicit Drug Trade,” 86 FR 71549 (December 17, 2021) for having engaged in, or attempted to engage in, activities or transactions that have materially contributed to, or pose a significant risk of materially contributing to, the international proliferation of illicit drugs or their means of production.

Dated: November 15, 2023.
Bradley T. Smith,
Director, Office of Foreign Assets Control, U.S. Department of the Treasury.

[FR Doc. 2023-25596 Filed 11-17-23; 8:45 am]

BILLING CODE 4810-AL-P